DEPARTMENT OF TRANSPORTATION

National Highway Traffic Safety Administration

[Docket No. NHTSA 2003-16464; Notice 1]

The Goodyear Tire & Rubber Company, Receipt of Application for Decision of Inconsequential Noncompliance

The Goodyear Tire & Rubber Company (Goodyear) has determined that certain tires it manufactured from 1998 to 2003 do not comply with S6.5(f) of Federal Motor Vehicle Safety Standard (FMVSS) No. 119, “New pneumatic tires for vehicles other than passenger cars.”

Pursuant to 49 U.S.C. 30118(d) and 30120(h), Goodyear has petitioned for a determination that this noncompliance is inconsequential to motor vehicle safety and has filed an appropriate report pursuant to 49 CFR part 573, “Defect and Noncompliance Reports.”

This notice of receipt of an application is published under 49 U.S.C. 30118 and 30120 and does not represent any agency decision or other exercise of judgment concerning the merits of the application.

Goodyear produced 37,980 LT265/75R16 Wrangler RT/s LR-E tires during the period from February 1, 1998, to May 31, 2003, which do not comply with FMVSS No. 119, S6.5(f). These tires were marked with 3 plies in the sidewall while there were actually 2 plies in the sidewall.

S6.5(f) of FMVSS No. 119 requires that each tire shall be marked on each sidewall with “the actual number of plies.” Goodyear states that this error occurred when these tires replaced the previous tire that had 3 plies in the sidewall. The new tire was changed to 2 plies but the mold drawing and specification were not revised to reflect this change.

Goodyear believes that this noncompliance is inconsequential to motor vehicle safety because the tires meet or exceed all applicable FMVSS performance standards, and all markings related to tire service (load capacity, corresponding inflation pressure, load range, etc.) are correct. The mislabeling noted above creates no unsafe condition.

Interested persons are invited to submit written views, arguments, and data on the application described above. Comments must refer to the docket and notice number cited at the beginning of this notice and be submitted by any of the following methods: Mail: Docket Management Facility; U.S. Department of Transportation, Nassif Building, Room PL-401, 400 Seventh Street, SW., Washington, DC 20590-0001. Hand Delivery: Room PL-401 on the plaza level of the Nassif Building, 400 Seventh Street, SW., Washington, DC. It is requested, but not required, that two copies of the comments be provided. The Docket Section is open on weekdays from 10 a.m. to 5 p.m. except Federal holidays. Comments may be submitted electronically by logging onto the Docket Management System Web site at http://dms.dot.gov. Click on “Help” to obtain instructions for filing the document electronically. Comments may be faxed to 1-202-493-2251, or may be submitted to the Federal eRulemaking Portal: Go to http://www.regulations.gov. Follow the online instructions for submitting comments.

The application, supporting materials, and all comments received before the close of business on the closing date indicated below will be considered. All comments and supporting materials received after the closing date, will also be filed and considered to the extent possible. When the application is granted or denied, a notice of the decision will be published in the Federal Register pursuant to the authority indicated below.

Comment closing date: January 2, 2004.

Authority: 49 U.S.C. 301118, 301120; delegations of authority at CFR 1.50 and 501.8.

Kenneth N. Weinstein,
Associate Administrator for Enforcement.

[FR Doc. 03-30107 Filed 12-2-03; 8:45 am]

BILLING CODE 4910-59-P